DEPARTMENT OF HOUSING AND URBAN DEVELOPMENT

[Docket No. FR-5200-FA-20]

Announcement of Funding Awards for Fiscal Year 2008; Historically Black Colleges and Universities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year (FY) 2008 Historically Black Colleges and Universities Program. The purpose of this document is to announce the names, addresses and the amount awarded to the winners to be used to help Historically Black Colleges and Universities (HBCUs) expand their role and effectiveness in addressing community development needs in their localities, consistent with the purposes of Title I of the Housing and Development Act of 1974, as amended.

FOR FURTHER INFORMATION CONTACT: Susan Brunson, Office of University Partnerships, U.S. Department of Housing and Urban Development, Room 8106, 451 Seventh Street, SW., Washington, DC 20410, telephone (202) 402-3852. To provide service for persons who are hearing-or-speech-impaired, this number may be reached via TTY by Dialing the Federal Information Relay Service on 800-877-8339 or 202-708-1455. (Telephone number, other than “800” TTY numbers are not toll free).

SUPPLEMENTARY INFORMATION: The Historically Black Colleges and Universities Program was approved by Congress under the Consolidated Appropriations Act, 2008 (Pub. L. 110-161) and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The HBCU Program provides funds for a wide range of CDBG-eligible activities including housing rehabilitation, property demolition or acquisition, public facilities, economic development, business entrepreneurship, and fair housing programs.

The Catalog of Federal Domestic Assistance number for this program is 14.520.

On May 12, 2008, (FR Vol. 73 No. 92) HUD published a Notice of Funding Availability (NOFA) announcing the availability of approximately $9 million for funding grants under this program. The maximum amount an applicant could be awarded this year is $700,000 for a three-year (36 months) grant performance period. Thirty-one applications were received from HBCUs in response to this program NOFA.

The Department reviewed, evaluated, and scored the applications received based on the criteria in the NOFA. As a result, HUD has funded the applications below, in accordance with section 102 (a)(4)(C) of the Department of Housing and Urban Development Reform Act of 1989 (103 Stat. 1987, 42 U.S.C. 3545). More information about the winners can be found at http://www.oup.org, the Department is publishing the names, addresses, and amounts of those awards as shown in Appendix A.

Dated: October 14, 2008.
Darlene F. Williams,
Assistant Secretary for Policy Development and Research.

Appendix A—Fiscal Year 2008 Funding Awards for Historically Black Colleges and Universities Grant Program
Recipient | City/State/ZipCode | Award
Stillman College, Dr. Eddie Thomas, PO Box 1430, 3600 Stillman Boulevard | Tuscaloosa, AL 35401 | $700,00
Alabama A&M University, Mr. Joseph Lee, PO Box 411, 4900 Meridian Street | Normal, AL 35762 | 700,000
Miles College, Mr. Frank Topping, 305 Brown Building, 5500 Myron Massey Boulevard | Fairfield, AL 35064 | 700,000
University of Arkansas at Pine Bluff, Mr. Henry Golatt, 1200 North University Drive, Slot 4943 | Pine Bluff, AR 71601 | 700,000
Howard University, Dr. Rodney D. Green, 2400 Sixth Street, NW | Washington, DC 20059 | 700,000
Savannah State University, Ms. Shirley Geiger, 3219 College Street | Savannah, GA 31404 | 700,000
Southern University and A&M College, Dr. Alma Thorton, PO Box 12596 | Baton Rouge, LA 70813 | 700,000
Winston-Salem State University, Ms. Valerie Howard, 601 South Martin Luther King, Jr. Drive | Winston-Salem, NC 27110 | 700,000
North Carolina Agricultural and Technical State University, Dr. Mushbau A. Shofoluwe, 1601 E Market Street | Greensboro, NC 27411 | 698,531
North Carolina Central University, Dr. Rebecca M. Winders, 1801 Fayetteville Street | Durham, NC 27707 | 695,077
Voorhees College, Mr. Willie Owens, PO Box 678, 422 Beech Avenue | Demark, SC 29042-2602 | 700,000
West Virginia State University Research and Development Corporation, Ms. A. Jenny Fertig, 201 ACEOP Administration Building, PO Box 1000 | Institute, WV 25112-1000 | 700,000
Virginia University of Lynchburg, Dr. Doris Crawford, 2058 Garfield Avenue | Lynchburg, VA 24501-6417 | 600,000

[FR Doc. E8-25061 Filed 10-21-08; 8:45 am]

BILLING CODE 4210-67-P